DEPARTMENT OF LABOR

Employment and Training Administration

[TA-W-58,786]

PPS Group, LLC (Prestige Staffing), City of Industry, CA; Notice of Termination of Investigation

Pursuant to Section 221 of the Trade Act of 1974, as amended, an investigation was initiated on February 3, 2006 in response to a worker petition filed by a company official on behalf of workers at PPS Group, LLC (Prestige Staffing), City of Industry, California.

The petitioning group of workers is covered by an earlier petition (TA-W-58,785) filed on February 3, 2006 that is the subject of an ongoing investigation for which a determination has not yet been issued. Further investigation in this case would duplicate efforts and serve no purpose; therefore the investigation under this petition has been terminated.

Signed at Washington, DC, this 7th day of February 2006.
Richard Church,
Certifying Officer, Division of Trade Adjustment Assistance.

[FR Doc. E6-2501 Filed 2-21-06; 8:45 am]

BILLING CODE 4510-30-P